DEPARTMENT OF ENERGY

Federal Energy Regulatory Commission

Combined Notice of Filings #1

Take notice that the Commission received the following electric corporate filings:

Docket Numbers: EC14-50-000.

Applicants: Northern States Power Company, a Minnesota corporation, Border Winds Energy, LLC, Pleasant Valley Wind, LLC.

Description: Amendment to January 30, 2014 Joint Application of Northern States Power Company, a Minnesota corporation, et. al. for Authorization under Section 203 of the Federal Power Act.

Filed Date: 2/7/14.

Accession Number: 20140207-5143.

Comments Due: 5 p.m. ET 2/28/14.

Docket Numbers: EC14-54-000.

Applicants: Big Sky Wind, LLC, Edison Mission Energy, Everpower Wind Holdings, Inc., Suzlon Wind Energy Corporation.

Description: Application of Big Sky Wind, LLC, Edison Mission Energy, Suzlon Wind Energy Corporation, and EverPower Wind Holdings, Inc. for Authorization Under Section 203 of the Federal Power Act.

Filed Date: 2/7/14.

Accession Number: 20140207-5191.

Comments Due: 5 p.m. ET 2/28/14.

Docket Numbers: EC14-55-000.

Applicants: EAM Nelson Holding, LLC, Entergy Nuclear FitzPatrick, LLC, Entergy Nuclear Generation Company, Entergy Nuclear Indian Point 2, LLC, Entergy Nuclear Indian Point 3, LLC, Entergy Nuclear Palisades, LLC, Entergy Nuclear Power Marketing, LLC, Entergy Nuclear Vermont Yankee, LLC, Entergy Power, LLC, Entergy Rhode Island State Energy, L.P., EWO Marketing, LLC, Llano Estacado Wind, LLC, Northern Iowa Windpower, LLC, RS Cogen, LLC.

Description: Joint Application for Authorization under Section 203 to Acquire Securities and Request for Expedited Commission Action of EAM Nelson Holding, LLC, et. al.

Filed Date: 2/7/14.

Accession Number: 20140207-5193.

Comments Due: 5 p.m. ET 2/28/14.

Docket Numbers: EC14-56-000.

Applicants: Fortis Inc., FortisUS Inc., Color Acquisition Sub Inc., UNS Energy Corporation, Tucson Electric Power Company, UNS Electric, Inc., UniSource Energy Development Company.

Description: Fortis-UNS Energy Section 203 Application for Authorization for Merger and Disposition of Jurisdictional Facilities.

Filed Date: 2/7/14.

Accession Number: 20140207-5194.

Comments Due: 5 p.m. ET 3/10/14.

Docket Numbers: EC14-57-000.

Applicants: Bruce Power Inc.

Description: Application for Authorization for Disposition of Jurisdictional Facilities and Request for Expedited Action of Bruce Power Inc.

Filed Date: 2/7/14.

Accession Number: 20140207-5197.

Comments Due: 5 p.m. ET 2/28/14.

Take notice that the Commission received the following exempt wholesale generator filings:

Docket Numbers: EG14-27-000.

Applicants: Pattern Panhandle Wind LLC.

Description: Pattern Panhandle Wind LLC Notice of Self-Certification of Exempt Wholesale Generator Status.

Filed Date: 2/10/14.

Accession Number: 20140210-5059.

Comments Due: 5 p.m. ET 3/3/14.

Docket Numbers: EG14-28-000.

Applicants: Pattern Panhandle Wind 2 LLC.

Description: Pattern Panhandle Wind 2 LLC Notice of Self-Certification of Exempt Wholesale Generator Status.

Filed Date: 2/10/14.

Accession Number: 20140210-5060.

Comments Due: 5 p.m. ET 3/3/14.

Take notice that the Commission received the following electric rate filings:

Docket Numbers: ER13-83-005.

Applicants: Duke Energy Progress, Inc., Duke Energy Carolinas, LLC.

Description: OATT Order No. 1000 Third Compliance Filing—Carolinas to be effective 6/1/2014.

Filed Date: 2/10/14.

Accession Number: 20140210-5055.

Comments Due: 5 p.m. ET 3/3/14.

Docket Numbers: ER14-865-000.

Applicants: Southwestern Public Service Company.

Description: Supplement to December 27, 2013 Southwestern Public Service Company tariff filing.

Filed Date: 2/7/14.

Accession Number: 20140207-5190.

Comments Due: 5 p.m. ET 2/18/14.

Docket Numbers: ER14-964-001.

Applicants: Pleasant Valley Wind, LLC.

Description: Amended Pleasant Valley Wind LLC MBR filing to be effective 3/10/2014.

Filed Date: 2/10/14.

Accession Number: 20140210-5104.

Comments Due: 5 p.m. ET 3/3/14.

Docket Numbers: ER14-965-001.

Applicants: Border Winds Energy, LLC.

Description: Amended Border Winds Energy MBR Filing to be effective 3/10/2014.

Filed Date: 2/10/14.

Accession Number: 20140210-5109.

Comments Due: 5 p.m. ET 3/3/14.

Docket Numbers: ER14-1127-001.

Applicants: Bayou Cove Peaking Power, LLC.

Description: Bayou Cove—Supplement to Compliance Filing to be effective 1/23/2014.

Filed Date: 2/10/14.

Accession Number: 20140210-5120.

Comments Due: 5 p.m. ET 3/3/14.

Docket Numbers: ER14-1128-001.

Applicants: Big Cajun I Peaking Power LLC.

Description: Big Cajun—Supplement to Compliance Filing to be effective 1/23/2014.

Filed Date: 2/10/14.

Accession Number: 20140210-5121.

Comments Due: 5 p.m. ET 3/3/14.

Docket Numbers: ER14-1129-001.

Applicants: Energy Alternatives Wholesale, LLC.

Description: Energy Alternatives—Supplement to Compliance Filing to be effective 1/23/2014.

Filed Date: 2/10/14.

Accession Number: 20140210-5128.

Comments Due: 5 p.m. ET 3/3/14.

Docket Numbers: ER14-1130-001.

Applicants: Louisiana Generating LLC.

Description: LA Gen—Supplement to Compliance Filing to be effective 1/23/2014.

Filed Date: 2/10/14.

Accession Number: 20140210-5130.

Comments Due: 5 p.m. ET 3/3/14.

Docket Numbers: ER14-1131-001.

Applicants: NRG Sterlington Power LLC.

Description: Sterlington-Supplement to Compliance Filing to be effective 1/23/2014.

Filed Date: 2/10/14.

Accession Number: 20140210-5134.

Comments Due: 5 p.m. ET 3/3/14.

Docket Numbers: ER14-1132-001.

Applicants: NRG Wholesale Generation LP.

Description: Wholesale-Supplement to Compliance Filing to be effective 1/23/2014.

Filed Date: 2/10/14.

Accession Number: 20140210-5137.

Comments Due: 5 p.m. ET 3/3/14.

Docket Numbers: ER14-1289-000.

Applicants: Noble Bellmont Windpark, LLC.

Description: Notice of Cancellation of Market-Based Rate Tariff to be effective 2/8/2014.

Filed Date: 2/7/14.

Accession Number: 20140207-5181.

Comments Due: 5 p.m. ET 2/28/14.

Docket Numbers: ER14-1290-000.

Applicants: Midcontinent Independent System Operator, Inc.

Description: 2014-02-07_Schedule 34 Filing to be effective 4/8/2014.

Filed Date: 2/7/14.

Accession Number: 20140207-5187.

Comments Due: 5 p.m. ET 2/28/14.

Docket Numbers: ER14-1291-000.

Applicants: Electric Energy, Inc.

Description: Request for Waiver of the Requirements of Order No. 764 of Electric Energy, Inc.

Filed Date: 2/7/14.

Accession Number: 20140207-5206.

Comments Due: 5 p.m. ET 2/28/14.

Docket Numbers: ER14-1292-000.

Applicants: Public Service Company of New Mexico.

Description: PNM Cargill Unexecuted TSA to be effective 1/1/2015.

Filed Date: 2/10/14.

Accession Number: 20140210-5051.

Comments Due: 5 p.m. ET 3/3/14.

Docket Numbers: ER14-1293-000.

Applicants: Oklahoma Gas and Electric Company.

Description: Request for Waiver and Suspension, and Pro Forma Notice of Cancellation, of Cost-Based Power Sales Tariff of Oklahoma Gas and Electric Company.

Filed Date: 2/10/14.

Accession Number: 20140210-5071.

Comments Due: 5 p.m. ET 3/3/14.

Docket Numbers: ER14-1294-000.

Applicants: Midcontinent Independent System Operator, Inc.

Description: 2014-02-10_SA 2633_Ameren-FutureGen Procurement Agr to be effective 1/10/2014.

Filed Date: 2/10/14.

Accession Number: 20140210-5072.

Comments Due: 5 p.m. ET 3/3/14.

Docket Numbers: ER14-1295-000.

Applicants: Milford Wind Corridor Phase I, LLC.

Description: Market-Based Rate Tariff Revisions to be effective 4/5/2014.

Filed Date: 2/10/14.

Accession Number: 20140210-5087.

Comments Due: 5 p.m. ET 3/3/14.

Docket Numbers: ER14-1296-000.

Applicants: Milford Wind Corridor Phase II, LLC.

Description: Market-Based Rate Tariff Revisions to be effective 4/5/2014.

Filed Date: 2/10/14.

Accession Number: 20140210-5088.

Comments Due: 5 p.m. ET 3/3/14.

Docket Numbers: ER14-1297-000.

Applicants: Palouse Wind, LLC.

Description: Market-Based Rate Tariff Revisions to be effective 4/5/2014.

Filed Date: 2/10/14.

Accession Number: 20140210-5089.

Comments Due: 5 p.m. ET 3/3/14.

Docket Numbers: ER14-1298-000.

Applicants: First Wind Energy Marketing, LLC.

Description: Market-Based Rate Tariff Revisions to be effective 4/5/2014.

Filed Date: 2/10/14.

Accession Number: 20140210-5090.

Comments Due: 5 p.m. ET 3/3/14.

Docket Numbers: ER14-1299-000.

Applicants: Longfellow Wind, LLC.

Description: Market-Based Rate Tariff Revisions to be effective 4/5/2014.

Filed Date: 2/10/14.

Accession Number: 20140210-5091.

Comments Due: 5 p.m. ET 3/3/14.

Docket Numbers: ER14-1300-000.

Applicants: Southwest Power Pool, Inc.

Description: 2299R3 Rattlesnake Creek Wind Project, LLC GIA to be effective 1/17/2014.

Filed Date: 2/10/14.

Accession Number: 20140210-5093.

Comments Due: 5 p.m. ET 3/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2014.
Nathaniel J. Davis, Sr.,
Deputy Secretary.

[FR Doc. 2014-03543 Filed 2-18-14; 8:45 am]

BILLING CODE 6717-01-P